GENERAL SERVICES ADMINISTRATION

[GSA-2008-N01]

Multiple Award Schedule Advisory Panel

AGENCY: Office of the Administrator, General Services Administration

ACTION: Notice, establishment of an Advisory Panel.

Establishment of Advisory Panel

This notice is published in accordance with the provisions of the Federal Advisory Committee Act (Public Law 92—463), and advises of the establishment of the GSA Multiple Award Schedule Advisory Panel (MAS). The Administrator of General Services has determined that the establishment of the Panel is necessary and in the public interest.

Purpose of the Advisory Panel

The Panel will be used to provide advice and recommendations to the General Services Administration that ensures that the Government obtains the lowest overall price for products and services and promotes fair award and administration of MAS contract awards. Specifically, the panel will review the MAS policy statements, implementing regulations, solicitation provisions and other related documents regarding the structure, use, and pricing for the MAS contract awards.

FOR FURTHER INFORMATION CONTACT: The Office of the Administrator is the office within GSA that is sponsoring this panel. For additional information, please contact Ms. Pat Brooks, Designated Federal Officer, Multiple Award Schedule Advisory Panel, U.S. General Services Administration, 2011 Crystal Drive, Suite 911, Arlington, VA. 22202, (703) 605-3406 or email at mas.advisorypanel@gsa.gov.

Dated: March 24, 2008
David A. Drabkin,
Acting Chief Acquisition Officer.

[FR Doc. E8-6547 Filed 3-27-08; 12:56 pm]

BILLING CODE 6820-EP-S